DEPARTMENT OF ENERGY

Federal Energy Regulatory Commission

[Project No. 4472-031]

Union Falls Hydropower, L.P.; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 4472-031.

c. Date filed: June 30, 2022.

d. Applicant: Union Falls Hydropower, L.P. (Union Falls).

e. Name of Project: Saranac Hydroelectric Project (Saranac Project).

f. Location: On the Saranac River, in the town of Franklin in Franklin County and the town of Black Brook in Clinton County, New York. The project does not include any federal land.

g. Filed Pursuant to: Federal Power Act 16 U.S.C. 791 (a)-825(r).

h. Applicant Contact: Ms. Sherri Loon, Coordinator—Operations USA, Kruger Energy, 423 Brunswick Ave., Gardiner, ME 04345; phone: (207) 203-3026; email: Sherri.Loon@kruger.com; and Mr. Lewis Loon, General Manager, Operations and Maintenance—USA, Kruger Energy, 432 Brunswick Ave., Gardiner, ME 04345; phone: (207) 203-3027; email: Lewis.Loon@kruger.com.

i. FERC Contact: Claire Rozdilski, 202-502-8529, or claire.rozdilski@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 29, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Saranac Hydroelectric Project (P-4472-031).

m. The application is not ready for environmental analysis at this time.

n. The Saranac Project consists of the following existing facilities: (1) a 151-foot-long, 24-foot-high dam with a 147-foot-long spillway section at crest elevation 1,408.49 feet mean sea level (msl) with 1-foot-high flashboards; (2) a reservoir having a surface area of 1,630 acres and a gross storage capacity of 8,900 acre-feet at pool elevation 1,409.49 feet msl; (3) an integrated 36-foot-long gated intake structure at the dam's left (north) side; (4) an 11-foot-diameter, 1,433-foot-long steel penstock; (5) a surge vent; (6) a powerhouse containing two turbine generating units with a total rated capacity of 2.6 megawatts; (7) 4.16-kilovolt (kV) generator leads; (8) a 4.16/46-kV step-up transformer bank; (9) a 90-foot-long, 46-kV transmission line; (10) a tailrace; and (11) appurtenant facilities. Union Falls does not propose changes to project facilities. Average annual generation at the project was 745 megawatt-hours between 2017 and 2021.

The Saranac Project operates in a modified run-of-river mode through the use of a float control for the purpose of generating electric power. Union Falls proposes to increase the minimum flow in the bypassed reach from 30 cubic feet per second (cfs) from April 1 through June 30, and 10 cfs for the remainder of the year, to 50 cfs from March 2 to November 30 and 30 cfs for the remainder of the year.

o. A copy of the application may be viewed on the Commission's website at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Milestone | Target date
Issue Deficiency Letter (if necessary) | August 2022.
Request Additional Information (if necessary) | August 2022.
Issue Acceptance Letter and Notice | November 2022.
Issue Scoping Document 1 for comments | December 2022.
Issue Scoping Document 2 (if necessary) | February 2023.
Issue Notice of Ready for Environmental Analysis | March 2023.

Final amendments to the application must be filed with the Commission no later than 30 days from the issuance date of the notice of ready for environmental analysis.

Dated: July 8, 2022.
Kimberly D. Bose,
Secretary.

[FR Doc. 2022-15052 Filed 7-13-22; 8:45 am]

BILLING CODE 6717-01-P